DEPARTMENT OF HOMELAND SECURITY

Federal Emergency Management Agency

Agency Information Collection Activities: Submission for OMB Review; Comment Request

AGENCY: Federal Emergency Management Agency, Department of Homeland Security.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: Revision to National Flood Insurance Program Maps: Application Forms For LOMRs and CLOMRs.

OMB Number: 1660-0016.

Abstract: The information collected on FEMA Forms 81-89, 81-89A, 81-89B, 81-89C, 81-89D, and 81-89E is used to determine if such data will result in a modification of a Base Flood Elevation (BFE), Special Flood Hazard Area (SFHA), and/or floodway. Since the information is collected, it is submitted to FEMA for review and is subsequently included on the National Flood Insurance Program (NFIP) maps.

Affected Public: Business or other for profit, individuals or households, and State, Local or Tribal Government.

Number of Respondents: 1,440.

Estimated Time per Respondent: 14.5 hours.

Estimated Total Annual Burden Hours: 20,880 hours.

Frequency of Response: Annually.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before January 9, 2006.

FOR FURTHER INFORMATION CONTACT: Requests for additional information or copies of the information collection should be made to Chief, Records Management, FEMA, 500 C Street, SW., Room 316, Washington, DC 20472, facsimile number (202) 646-3347, or e-mail address FEMA-Information-Collections@dhs.gov.

Dated: November 28, 2005.
Darcy Bingham,
Branch Chief, Information Resources Management Branch, Information Technology Services Division.

[FR Doc. E5-7157 Filed 12-8-05; 8:45 am]

BILLING CODE 9110-12-P